DEPARTMENT OF ENERGY

Federal Energy Regulatory Commission

[Docket No. EC19-57-002]

The Vanguard Group, Inc., Vanguard Global Advisors, LLC, Vanguard Asset Management, Ltd., Vanguard Investments Australia Ltd., Vanguard Fiduciary Trust Company; Notice of Filing Granted by Operation of Law

On November 7, 2022, The Vanguard Group, Inc. along with its subsidiaries (collectively, Vanguard), filed, pursuant to section 203(a)(2) of the Federal Power Act (FPA),¹ and part 33 of the Commission's regulations,² a request for a three-year extension of blanket authorization to acquire securities on behalf of itself and 34 affiliated investment companies and their affiliated mutual funds.

¹ 16 U.S.C. 824b(a)(2).

² 18 CFR part 33 (2022).

Pursuant to section 203(a)(5) of the FPA,³ in the absence of Commission action on or before May 6, 2023, Vanguard's request for a three-year extension of blanket authorization to acquire securities is deemed granted by operation of law. Accordingly, Vanguard's request was deemed granted on May 7, 2023.

³ 16 U.S.C. 824b(a)(5).

Dated: May 8, 2023.
Kimberly D. Bose,
Secretary.

[FR Doc. 2023-10173 Filed 5-11-23; 8:45 am]

BILLING CODE 6717-01-P